DEPARTMENT OF COMMERCE

Foreign-Trade Zones Board

[Docket 39-2002, 40-2002, 41-2002, 42-2002, 43-2002, 44-2002, 45-2002, 46-2002, 47-2002, and 48-2002]

Flint Ink North America Corporation—Applications for Foreign-Trade Subzone Status; Extension of Comment Period

The comment periods for the cases referenced above (67 FR 64088-64096, 10/17/2002) are being extended again, to April 15, 2003, at the request of the applicant, which will allow interested parties additional time in which to comment on the proposals. These ten related cases involve pending subzone applications from the following Foreign-Trade Zones:

—Foreign-Trade Zone 143—Sacramento, California

—Foreign-Trade Zone 170—Indianapolis, Indiana

—Foreign-Trade Zone 182—Fort Wayne, Indiana

—Foreign-Trade Zone 29—Louisville, Kentucky

—Foreign-Trade Zone 47—Boone County, Kentucky

—Foreign-Trade Zone 189—Kent-Ottawa-Muskegon Counties, Michigan

—Foreign-Trade Zone 46—Cincinnati, Ohio

—Foreign-Trade Zone 105—Providence, Rhode Island

—Foreign-Trade Zone 21—Charleston, South Carolina

—Foreign-Trade Zone 185—Culpeper, Virginia

Comments in writing are invited during this period. Submissions should include 3 copies. Material submitted will be available at: Foreign-Trade-Zones Board, U.S. Department of Commerce, Franklin Court Building—Suite 4100W, 1099 14th St. NW., Washington, DC 20005.

Dated: January 10, 2003.
Dennis Puccinelli,
Executive Secretary.

[FR Doc. 03-1151 Filed 1-16-03; 8:45 am]

BILLING CODE 3510-DS-P